DEPARTMENT OF TRANSPORTATION

Federal Railroad Administration

[Docket Number FRA-2013-0088]

Notice of Application for Approval of Railroad Safety Program Plan and Product Safety Plan

In accordance with Part 236 of Title 49 Code of Federal Regulations and 49 U.S.C. 20502(a), this document provides the public notice that by a document dated May 26, 2013, the Alabama and Tennessee River Railway (ATN) petitioned the Federal Railroad Administration (FRA) for approval of a Railroad Safety Program Plan (RSPP) and Product Safety Plan (PSP) for the Railsoft TrackAccess System. FRA assigned the petition Docket Number FRA-2013-0088.

The TrackAccess System is a processor-based dispatch system developed to be operated in autonomous mode (without dispatcher intervention) for low-density rail lines. The system provides a processor-based methodology of requesting and issuing track authority to either qualified train crewmembers or roadway workers. It does so while increasing railroad productivity and significantly improving the safety of train operations, roadway workers, and other railway equipment. FRA is providing public notice that the ATN RSPP Version 1, dated April 12, 2013, and related documents have been placed in Docket Number FRA-2013-0088 and are available for public inspection. FRA is not accepting public comment on the RSPP documents; notice regarding these documents is provided for information only.

FRA is accepting comments on the ATN PSP Version 1, dated July, 15, 2013, which is available in Docket Number FRA-2013-0088 for public inspection. The ATN asserts that the ATN RSPP Version 1, dated April 12, 2013, and the ATN PSP Version 1, dated July 15, 2013, contain the same information and analysis as the Marquette Rail RSPP Version 3.0, dated February 16, 2009, and the Marquette Rail PSP Version 4.0, dated March 15, 2012. The Marquette Rail RSPP Version 3.0 and the Marquette Rail PSP Version 4.0 were previously approved by FRA on the respective dates of May 15, 2009 (Docket FRA-2009-0017), and February 9, 2013 (Docket FRA-2011-0055).

ATN's PSP provides descriptions of the TrackAccess System itself. ATN states that in the case of Marquette Rail, FRA found that the PSP demonstrates that the TrackAccess System was designed in a highly safe manner and was sufficiently tested to verify that fact. Based on this, FRA approved the use of the Railsoft TrackAccess System in autonomous mode for the Marquette Rail. ATN asserts that since ATN's RSPP Version 1.0 and PSP Version 1.0 contain the same programmatic and technical information as the previously approved Marquette Rail RSPP Version 3.0 and the Marquette Rail PSP Version 4.0, authorizing autonomous TrackAccess operations, the ATN should also be allowed to use TrackAccess in an autonomous mode.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request. All communications concerning these proceedings should identify the appropriate docket number and may be submitted by any of the following methods:

• Web site: www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by November 12, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-23574 Filed 9-26-13; 8:45 am]

BILLING CODE 4910-06-P